DEPARTMENT OF COMMERCE

Foreign-Trade Zones Board

B-25-2025]

Foreign-Trade Zone (FTZ) 45, Notification of Proposed Production Activity, SSI Shredding Systems, Inc., (Industrial Shredders and Compactors), Wilsonville and Portland, Oregon

SSI Shredding Systems, Inc. submitted a notification of proposed production activity to the FTZ Board (the Board) for its facilities in Wilsonville and Portland, Oregon within Subzone 45J. The notification conforming to the requirements of the Board's regulations (15 CFR 400.22) was received on April 11, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: customized industrial shredding machines; customized industrial compactor machines; industrial cutting blades; drive shafts; spacers; drive assemblies; hydraulic units; steel frame weldments; bearing assemblies; machined steel parts for shredders and compactors; gears; hoppers; hoods; guards; shields; screens; platforms; and, cleaning fingers (duty rate—free).

The proposed foreign-status materials/components include: alloy steel blanks for cutting blades; hydraulic cylinders; steel frame weldments; steel blanks for structural framing; heavy wall round steel tubing; steel round bar; steel rectangular bar; tapered roller bearings; and, spherical roller bearings (duty rate—free or 5.8%). The request indicates that certain materials/components are subject to duties under section 1702(a)(1)(B) of the International Emergency Economic Powers Act (section 1702), section 232 of the Trade Expansion Act of 1962 (section 232) and/or section 301 of the Trade Act of 1974 (section 301), depending on the country of origin. The applicable section 1702, section 232 and section 301 decisions require subject merchandise to be admitted to FTZs in privileged foreign (PF) status (19 CFR 146.41). The request also indicates that certain bearings are subject to an antidumping/countervailing duty (AD/CVD) order/investigation if imported from China. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is May 27, 2025.

A copy of the notification will be available for public inspection in the “Online FTZ Information System” section of the Board's website.

For further information, contact Diane Finver at Diane.Finver@trade.gov.

Dated: April 14, 2025.
Elizabeth Whiteman,
Executive Secretary.

[FR Doc. 2025-06575 Filed 4-16-25; 8:45 am]

BILLING CODE 3510-DS-P